DEPARTMENT OF ENERGY

Federal Energy Regulatory Commission

Combined Notice of Filings

Take notice that the Commission has received the following Natural Gas Pipeline Rate and Refund Report filings:

Filings Instituting Proceedings

Docket Numbers: RP15-337-000.

Applicants: Gas Transmission Northwest LLC.

Description: Gas Transmission Northwest LLC Interruptible Transportation Revenue Refund Report under RP15-337.

Filed Date: 1/14/15.

Accession Number: 20150114-5044.

Comments Due: 5 p.m. ET 1/26/15.

Docket Numbers: RP15-338-000.

Applicants: Iroquois Gas Transmission System, L.P.

Description: § 4(d) rate filing per 154.204: 01/14/15 Negotiated Rates—ConEdison Energy Inc. (HUB) 2275-89 to be effective 1/13/2015.

Filed Date: 1/14/15.

Accession Number: 20150114-5167.

Comments Due: 5 p.m. ET 1/26/15.

Docket Numbers: RP15-339-000.

Applicants: Iroquois Gas Transmission System, L.P.

Description: § 4(d) rate filing per 154.204: 01/14/15 Negotiated Rates—Mercuria Energy Gas Trading LLC (HUB)—7540-89 to be effective 1/13/2015.

Filed Date: 1/14/15.

Accession Number: 20150114-5185.

Comments Due: 5 p.m. ET 1/26/15.

Docket Numbers: RP15-340-000.

Applicants: Iroquois Gas Transmission System, L.P.

Description: § 4(d) rate filing per 154.204: 01/14/15 Negotiated Rates—Sequent Energy Management (HUB) 3075-89 to be effective 1/13/2015.

Filed Date: 1/14/15.

Accession Number: 20150114-5187.

Comments Due: 5 p.m. ET 1/26/15.

Docket Numbers: RP15-341-000.

Applicants: Iroquois Gas Transmission System, L.P.

Description: § 4(d) rate filing per 154.204: 01/14/15 Negotiated Rates—United Energy Trading, LLC (HUB) 5095-89 to be effective 1/13/2015.

Filed Date: 1/14/15.

Accession Number: 20150114-5189.

Comments Due: 5 p.m. ET 1/26/15.

Docket Numbers: RP11-1844-000.

Applicants: Rockies Express Pipeline LLC.

Description: Compliance filing per 154.501: Settlement Refund Report in RP11-1844 et. al. to be effective N/A.

Filed Date: 11/12/14.

Accession Number: 20141112-5295.

Comments Due: 5 p.m. ET 1/26/15.

Docket Numbers: RP13-316-000.

Applicants: Tallgrass Interstate Gas Transmission, L.

Description: Compliance filing per 154.501: TIGT 2014 Annual Reconciliation Filing to be effective N/A.

Filed Date: 12/26/14.

Accession Number: 20141226-5002.

Comments Due: 5 p.m. ET 1/20/15.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceeding

Docket Numbers: RP09-791-002.

Applicants: MoGas Pipeline LLC.

Description: Cost and Revenue Study of MoGas Pipeline LLC under RP09-791.

Filed Date: 12/19/14.

Accession Number: 20141219-5434.

Comments Due: 5 p.m. ET 1/26/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2015.
Nathaniel J. Davis, Sr.,
Deputy Secretary.

[FR Doc. 2015-01259 Filed 1-23-15; 8:45 am]

BILLING CODE P